DEPARTMENT OF HOMELAND SECURITY

[Docket No. 2025-1108]

Privacy Act of 1974; System of Records

AGENCY: U.S. Department of Homeland Security.

ACTION: Notice of a modified system of records.

SUMMARY: This notice announces that the Department of Homeland Security (DHS) is modifying eligible DHS System of Records Notices identified below. DHS will adopt OMB-required routine use language to clarify that DHS will disclose information to the U.S. Department of the Treasury in certain circumstances.

DATES: Submit comments on or before January 30, 2026. These modified systems will be effective upon publication. New or modified routine uses will be effective January 30, 2026.

ADDRESSES: The public is invited to submit any comments, identified by docket number 2025-1108 by one of the following methods:

• Federal e-Rulemaking Portal: http://www.regulations.gov. Follow the instructions for submitting comments.

• Fax: 202-343-4010.

• Mail: Roman Jankowski, Chief Privacy Officer, Privacy Office, Department of Homeland Security, Washington, DC 20528-0655.

Instructions

All submissions received must include the agency name and docket number 2025-1108. All comments received will be posted without change to http://www.regulations.gov, including any personal information provided.

Docket: For access to the docket to read background documents or comments received, go to http://www.regulations.gov.

FOR FURTHER INFORMATION CONTACT: For general questions, or privacy concerns, please contact: Roman Jankowski, Privacy@hq.dhs.gov, Chief Privacy Officer, Department of Homeland Security, Washington, DC 20528-0655.

SUPPLEMENTARY INFORMATION:

I. Background

The Payment Integrity Information Act of 2019 and the Executive Order 14249, Protecting America's' Bank Account From Fraud, Waste, and Abuse are clear on expectations that Do Not Pay will be used throughout the payment lifecycle. On August 20, 2025, the Office of Management and Budget (OMB) issued Memorandum M-25-32, “Preventing Improper Payments and Protecting Privacy Through Do Not Pay,” to the heads of all executive departments and agencies. In this memorandum, OMB required each agency to (1) identify which of the agency's systems of records maintain information about applicants for, or recipients of, Federal funds that agencies use to make eligibility determinations for payments to beneficiaries, award and loan recipients, vendors, contractors, and other payees; and (2) determine which of the identified systems of records maintain information whose disclosure to Treasury would be relevant and necessary for identifying, preventing, or recouping improper payments by reviewing payment and award eligibility through the Do Not Pay Working System; and (3) report to OMB and Congress which agency system of records notices would be updated to include either a new routine use or a modified routine use that would permit sharing of Privacy Act records to the Department of Treasury for purposes of implementing Do Not Pay.

To satisfy the routine use requirement in the Executive Order and OMB Memorandum M-25-32, DHS is issuing a notice in the Federal Register to modify eligible Department's System of Records Notices identified below. DHS will adopt OMB-required routine use language as follows: “To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.” This language will be inserted in each applicable System of Records Notice in their “ROUTINE USES” section. DHS is not making any other changes to these System of Record Notices by this notice publication. In accordance with the Privacy Act of 1974, 5 U.S.C. 552a(r), the Department of Homeland Security has provided a report to OMB and the Congress on this notice of modified systems of records.

SYSTEM NAME AND NUMBER:

Department of Homeland Security Privacy Act notices and citations follow.

1. DHS/CBP-001 Import Information System | 81 FR 48826 (July 26, 2016).
2. DHS/CBP-003 Credit/Debit Card Data System | 76 FR 67755 (Nov. 2, 2011).
3. DHS/ALL-007 Accounts Payable System of Records | 83 FR 65705 (Dec. 21, 2018).
4. DHS/ALL-008 Accounts Receivable System of Records | 83 FR 65176 (Dec. 19, 2018).
5. DHS/ALL-013 Department of Homeland Security Claims Records | 73 FR 63987 (Oct. 28, 2008).
6. DHS/ALL-019 Payroll, Personnel, and Time and Attendance Records System of Records | 80 FR 58283 (Sept. 28, 2015).
7. DHS/ALL-021 Department of Homeland Security Contractors and Consultants | 73 FR 63179 (Oct. 23, 2008).
8. DHS/FEMA-003 National Flood Insurance Program Files | 79 FR 28747 (May 19, 2014).
9. DHS/FEMA-004 Non-Disaster Grant Management Information Files | 87 FR 41141 (July 11, 2022).
10. DHS/FEMA-009 Hazard Mitigation Disaster Public Assistance and Disaster Loan Programs | 79 FR 16015 (March 24, 2014).
11. DHS/ICE 001—Student and Exchange Visitor Information System | 86 FR 69663 (Dec. 8, 2021).
12. DHS/ICE-004 Bond Management Information System (BMIS) | 85 FR 64515 (Oct. 13, 2020).
13. DHS/TSA-022 National Finance Center Payroll Personnel System | 71 FR 40530 (July 17, 2006).
14. DHS/USCG-014 Military Pay and Personnel | 76 FR 66933 (Oct. 28, 2011).
15. DHS/USCG-019 Non-Federal Invoice Processing | 73 FR 77790 (Dec. 19, 2008).
16. DHS/USCIS-001—Alien File, Index, and National File Tracking System of Records | 82 FR 43556(Sept. 18, 2017).
17. DHS/USCIS-007 Benefits Information System | 84 FR 54622 (Oct. 10, 2019).

SECURITY CLASSIFICATION:

Please refer to the Federal Register citations in the table above.

SYSTEM LOCATION:

Please refer to the Federal Register citations in the table above.

SYSTEM MANAGER(S):

Please refer to the Federal Register citations in the table above.

* * * * *

ROUTINE USES OF RECORDS MAINTAINED IN THE SYSTEM, INCLUDING CATEGORIES OF USERS AND THE PURPOSES OF SUCH USES:

“To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.”

* * * * *

HISTORY:

Please refer to the Federal Register citations in the table above.

Roman Jankowski,
Chief Privacy Officer, Department of Homeland Security.

[FR Doc. 2025-24030 Filed 12-30-25; 8:45 am]

BILLING CODE 9110-9L-P